DEPARTMENT OF TRANSPORTATION

Federal Aviation Administration

14 CFR Part 39

[Docket No. 2003-NM-127-AD; Amendment 39-14168; AD 2005-13-31]

RIN 2120-AA64

Airworthiness Directives; Short Brothers Model SD3-60 Airplanes

AGENCY: Federal Aviation Administration, Department of Transportation.

ACTION: Final rule.

SUMMARY: This amendment adopts a new airworthiness directive (AD), applicable to all Short Brothers Model SD3-60 airplanes, that requires performing repetitive inspections of the shear attachment fittings of the vertical stabilizer for corrosion, and performing corrective actions if necessary. The actions specified by this AD are intended to detect and correct corrosion in the area of the main spar web fittings of the vertical stabilizer, which could result in reduced structural integrity of the vertical stabilizer. This action is intended to address the identified unsafe condition.

DATES: Effective August 2, 2005.

The incorporation by reference of a certain publication listed in the regulations is approved by the Director of the Federal Register as of August 2, 2005.

ADDRESSES: The service information referenced in this AD may be obtained from Short Brothers, Airworthiness & Engineering Quality, P.O. Box 241, Airport Road, Belfast BT3 9DZ, Northern Ireland. This information may be examined at the Federal Aviation Administration (FAA), Transport Airplane Directorate, Rules Docket, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: A proposal to amend part 39 of the Federal Aviation Regulations (14 CFR part 39) to include an airworthiness directive (AD) that is applicable to all Short Brothers Model SD3-60 airplanes was published as a supplemental notice of proposed rulemaking (NPRM) in the Federal Register on April 1, 2005 (70 FR 16764). That action proposed to require performing repetitive inspections of the shear attachment fittings of the vertical stabilizer for corrosion, and performing corrective actions if necessary. The actions specified by this AD are intended to detect and correct corrosion in the area of the main spar web fittings of the vertical stabilizer, which could result in reduced structural integrity of the vertical stabilizer.

Comments

We provided the public the opportunity to participate in the development of this AD. No comments have been submitted on the proposed AD or on the determination of the cost to the public.

Explanation of Change to Applicability

We have revised the applicability of the proposed AD to identify model designations as published in the most recent type certificate data sheet for the affected models.

Explanation of Change to Final Rule

The proposed AD had an incorrectly numbered “Note” paragraph. We have corrected the number of that Note in the final rule.

Conclusion

We have carefully reviewed the available data and determined that air safety and the public interest require adopting the AD with the changes described previously. We have determined that these changes will neither increase the economic burden on any operator nor increase the scope of the AD.

Cost Impact

The following table provides the estimated costs for U.S. operators to comply with this AD.

Estimated Costs
Action | Work hours | Average labor rate per hour | Parts | Cost per airplane | Number of U.S.-registered airplanes | Fleet cost
Inspection, per inspection cycle | 4 | $65 | None | $260 | 46 | $11,960, per inspection cycle.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the National Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2005-13-31 Short Brothers PLC: Amendment 39-14168. Docket 2003-NM-127-AD.

Applicability: All Model SD3-60 airplanes, certificated in any category.

Compliance: Required as indicated, unless accomplished previously.

To detect and correct corrosion in the area of the main spar web fittings of the vertical stabilizer, which could result in reduced structural integrity of the vertical stabilizer, accomplish the following:

Inspection and Previous Actions

(a) Except as provided by paragraphs (a)(1) and (a)(2) of this AD, within 4,800 flight hours or 90 days after the effective date of this AD, whichever occurs first, do a borescope inspection to detect corrosion of the shear attachment fittings of the vertical stabilizer, in accordance with the Accomplishment Instructions of Short Brothers Service Bulletin SD360-53-45, dated December 2003.

(1) If an airplane (the shear attachment fitting) has been inspected in accordance with the Accomplishment Instructions of Short Brothers Service Bulletin SD360-53-44, Revision 1, dated January 24, 2003, before the effective date of this AD, and was found to have no corrosion on the fittings, then the initial inspection specified in paragraph (a) of this AD is not required.

(2) If the shear attachment fitting has been inspected in accordance with the Accomplishment Instructions of Short Brothers Service Bulletin SD360-53-44, Revision 1, dated January 24, 2003, and was found to have corrosion, but the corroded fitting is not yet replaced, then a review of the inspection results is required to determine if the corrosion was within the acceptable limits specified in Short Brothers Service Bulletin SD360-53-45, dated December 2003.

Corrective Actions and Repetitive Inspections

(b) If any corrosion is found during the inspection required by paragraph (a) of this AD, do the applicable actions required by paragraph (b)(1) or (b)(2) of this AD.

(1) If any corrosion is within the limits specified in the Accomplishment Instructions of Short Brothers Service Bulletin SD360-53-45, dated December 2003, do the actions required by paragraphs (b)(1)(i) and (b)(1)(ii) of this AD.

(i) Repeat the inspection required by the service bulletin at intervals not to exceed 6 months.

(ii) Within 18 months after the initial inspection required by paragraph (a) of this AD, replace all corroded shear attachment fittings in accordance with the Accomplishment Instructions of the service bulletin. Accomplishing the replacement ends the repetitive inspections required by paragraph (b)(1)(i) of this AD.

(2) If any corrosion is outside the limits specified in the Accomplishment Instructions of Short Brothers Service Bulletin SD360-53-45, dated December 2003, before further flight, replace the corroded fitting with a new fitting, in accordance with the Accomplishment Instructions of the service bulletin.

(c) If no corrosion is found during the inspection required by paragraph (a) or if the fitting was replaced with a new fitting in accordance with Short Brothers Service Bulletin SD360-53-45, dated December 2003, do the actions in paragraphs (c)(1) and (c)(2) of this AD.

(1) Within 24 months after the initial inspection required by paragraph (a) of this AD or within 24 months after replacement of the fitting with a new one, whichever occurs later, do a borescope (intrascope) detailed inspection for corrosion, in accordance with Part A of the Accomplishment Instructions of Short Brothers Service Bulletin SD360-53-45, dated December 2003. Repeat this inspection thereafter at intervals not to exceed 24 months. Do corrective actions in accordance with paragraph (b) of this AD.

(2) Thereafter, except as provided in paragraph (f) of this AD, no alternative borescope inspections may be approved.

Previous Repetitive Inspections

(d) Borescope (intrascope) detailed inspections done before the effective date of this AD in accordance with Bombardier Temporary Revisions (TR) TR360-MPSUPP-04 and TR360-MPSUPP-03, both dated August 20, 2003, are acceptable for compliance with the requirements of paragraph (c)(1) of this AD.

Disposition of Repairs for Corroded/Oversized Holes

(e) Where Short Brothers Service Bulletin SD360-53-45, dated December 2003, says to contact the manufacturer for action on any corroded or oversized hole found during the inspection required by paragraph (a) or (c) of this AD, before further flight, repair in accordance with a method approved by either the Manager, International Branch, ANM-116, FAA, Transport Airplane Directorate; or the Civil Aviation Authority (or its delegated agent).

Alternative Methods of Compliance

(f) In accordance with 14 CFR 39.19, the Manager, International Branch, ANM-116, is authorized to approve alternative methods of compliance for this AD.

Note 1: The subject of this AD is addressed in British airworthiness directive G-2004-0005, effective March 16, 2004.

Incorporation by Reference

(g) You must use Short Brothers Service Bulletin SD360-53-45, dated December 2003, to perform the actions that are required by this AD, unless the AD specifies otherwise. The Director of the Federal Register approves the incorporation by reference of this document in accordance with 5 U.S.C. 552(a) and 1 CFR part 51. To get copies of the service information, contact Short Brothers, Airworthiness & Engineering Quality, P.O. Box 241, Airport Road, Belfast BT3 9DZ, Northern Ireland. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Effective Date

(h) This amendment becomes effective on August 2, 2005.

Issued in Renton, Washington, on June 14, 2005.
Kevin M. Mullin,
Acting Manager, Transport Airplane Directorate, Aircraft Certification Service.

[FR Doc. 05-12508 Filed 6-27-05; 8:45 am]

BILLING CODE 4910-13-P